DEPARTMENT OF DEFENSE

Office of the Secretary

[Docket ID: DOD-2010-OS-0029]

Privacy Act of 1974; System of Records

AGENCY: Department of Defense, DoD.

ACTION: Notice to alter a system of records.

SUMMARY: The Office of the Secretary of Defense proposes to alter a system of records in its inventory of record systems subject to the Privacy Act of 1974 (5 U.S.C. 552a), as amended.

DATES: This proposed action would be effective without further notice on April 23, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington, DC 20301-1155.

The proposed system report, as required by 5 U.S.C. 552a(r) of the Privacy Act of 1974, as amended, was submitted on March 12, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: March 18, 2010.
Mitchell S. Bryman,
Alternate OSD Federal Register Liaison Officer, Department of Defense.

T7334

Defense Travel System (September 8, 2004; 69 FR 54272).

Changes:

Delete system ID number and replace with “DHRA 08 DoD”.

* * * * *

System Location:

Delete entry and replace with “Central Data Center 1, ServerVault, 1506 Moran Road, Dulles, VA 20166-9306.

Central Data Center 2, Usinternetworking, Inc., One Usi Plaza, Annapolis, MD 21401-7478.

DTS Archive/Management Information System, Defense Manpower Data Center, DoD Center, Monterey Bay, 400 Gigling Road, Seaside, CA 93955-6771.”

* * * * *

Authority for maintenance of the system:

Delete entry and replace with “5 U.S.C. 5701-5757, Travel, Transportation, and Subsistence; 10 U.S.C. 135, Under Secretary of Defense (Comptroller); 10 U.S.C. 136, Under Secretary of Defense (Personnel and Readiness); DoD Directive 5100.87, Department of Defense Human Resources Activity; 10 U.S.C. 3013, Secretary of the Army; 10 U.S.C. 5013, Secretary of the Navy; 10 U.S.C. 8013, Secretary of the Air Force; DoD Financial Management Regulation 7000.14-R, Vol. 9, Travel Policies and Procedures; DoD Directive 4500.09E, Transportation and Traffic Management; DoD 4500.9-R, Defense Transportation Regulation, Parts I-V; 41 CFR 300-304, Federal Travel Regulation; Joint Federal Travel Regulation (Vol. 1) (Uniformed Service Members); Joint Travel Regulation (Vol. 2) (DoD Civilian Personnel); and E.O. 9397 (SSN), as amended.”

Purpose(s):

Delete entry and replace with “To provide a DoD-wide travel management process which will cover all official travel, from pre-travel arrangements to post-travel payments, to include the processing of official travel requests for DoD personnel, and other individuals who travel pursuant to DoD travel orders; to provide for the reimbursement of travel expenses incurred by individuals while traveling on official business; and to create a tracking system whereby DoD can monitor the authorization, obligation, and payment for such travel.

To establish a repository of archived/Management Information System (MIS) travel records which can be used to satisfy reporting requirements; to assist in the planning, budgeting, and allocation of resources for future DoD travel; to conduct oversight operations; to analyze travel, budgetary, or other trends; to detect fraud and abuse; and to respond to authorized internal and external requests for data relating to DoD official travel and travel related services, including premium class travel.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

To Federal and private entities providing travel services for purposes of arranging transportation and lodging for those individuals authorized to travel at government expense on official business.

To the Internal Revenue Service to provide information concerning the pay of travel allowances which are subject to federal income tax.

To banking establishments for the purpose of confirming billing or expense data.

The DoD ‘Blanket Routine Uses’ set forth at the beginning of the DoD compilation of systems of records notices apply to this system.”

Storage:

Delete entry and replace with “Electronic storage media.”

* * * * *

Safeguards:

Delete entry and replace with “Records are stored in office buildings protected by guards, controlled screening, use of visitor registers, electronic access, and/or locks. Access to records is limited to individuals who are properly screened and cleared on a need-to-know basis in the performance of their official duties. Passwords, digital signatures, and role-based access are used to control access to the systems data, and procedures are in place to deter and detect browsing and unauthorized access. Physical and electronic access are limited to persons responsible for servicing and authorized to use the record system.”

Retention and Disposal:

Delete entry and replace with “Records are maintained for 10 years, 3 months and then destroyed.”

System manager(s) and address:

Delete entry and replace with “Deputy Director, Defense Travel Management Office, 4601 N. Fairfax Drive, Suite 800, Arlington, VA 22203-1546.

For archived records: Deputy Director, Defense Travel System/Management Information System, Defense Manpower Data Center, 400 Gigling Road, Seaside, CA 93955-6771.”

Notification procedure:

Delete entry and replace with “Individuals seeking to determine whether information about themselves is contained in this system of records should address written inquiries to the Deputy Director, Defense Travel Management Office, 4601 N. Fairfax Drive, Suite 800, Arlington, VA 22203-1546 or (for archived records) the Deputy Director, Defense Travel System/Management Information System, Defense Manpower Data Center, 400 Gigling Road, Seaside, CA 93955-6771.

Individuals should provide their full name, Social Security Number (SSN), office or organization where assigned when trip was taken, and dates of travel.”

Record access procedures:

Delete entry and replace with “Individuals seeking access to records about themselves contained in this system of records should address written requests to the Office of the Secretary of Defense/Joint Staff Freedom of Information Act Requester Service Center, 1155 Defense Pentagon, Washington, DC 20301-1155.

Requests must include the name and number of this system of records notice in addition to the individual's full name, Social Security Number (SSN), office or organization where assigned when trip was taken, dates of travel, and be signed by the individual.”

Contesting record procedures:

Delete entry and replace with “The Office of the Secretary of Defense rules for accessing records, for contesting contents and appealing initial agency determinations are published in Office of the Secretary of Defense Administrative Instruction 81; 32 CFR part 311; or may be obtained from the System Manager.”

* * * * *

DHRA 08 DoD

System Name:

Defense Travel System

System Location:

Central Data Center 1, ServerVault, 1506 Moran Road, Dulles, VA 20166-9306.

Central Data Center 2, Usinternetworking, Inc., One Usi Plaza, Annapolis, MD 21401-7478.

DTS Archive/Management Information System, Defense Manpower Data Center, DoD Center, Monterey Bay, 400 Gigling Road, Seaside, CA 93955-6771.

Categories of individuals covered by the system:

Department of Defense (DoD) civilian personnel; active, former, and retired military members; Reserve and National Guard personnel; academy nominees, applicants, and cadets; dependents of military personnel; and foreign nationals residing in the United States; and all other individuals in receipt of DoD travel orders.

Categories of records in the system:

Traveler's name, Social Security Number (SSN), gender, date of birth, e-mail address, Service/Agency, organizational information, mailing address, home address, emergency contact information, duty station information, title/rank, civilian/military status information, travel preferences, frequent flyer information, passport information. Financial information to include government and/or personal charge card account numbers and expiration information, personal checking and/or savings account numbers, government accounting code/budget information. Specific trip information to include travel itineraries (includes dates of travel) and reservations, trip record number, trip cost estimates, travel vouchers, travel-related receipts, travel document status information, travel budget information, commitment of travel funds, records of actual payment of travel funds, and supporting documentation.

Authority for maintenance of the system:

5 U.S.C. 5701-5757, Travel, Transportation, and Subsistence; 10 U.S.C. 135, Under Secretary of Defense (Comptroller); 10 U.S.C. 136, Under Secretary of Defense (Personnel and Readiness); DoD Directive 5100.87, Department of Defense Human Resources Activity; 10 U.S.C. 3013, Secretary of the Army; 10 U.S.C. 5013, Secretary of the Navy; 10 U.S.C. 8013, Secretary of the Air Force; DoD Financial Management Regulation 7000.14-R, Vol. 9, Travel Policies and Procedures; DoD Directive 4500.09E, Transportation and Traffic Management; DoD 4500.9-R, Defense Transportation Regulation, Parts I-V; 41 CFR 300-304, Federal Travel Regulation; Joint Federal Travel Regulation (Vol. 1) (Uniformed Service Members); Joint Travel Regulation (Vol. 2) (DoD Civilian Personnel); and E.O. 9397 (SSN), as amended.

Purpose(s):

To provide a DoD-wide travel management process which will cover all official travel, from pre-travel arrangements to post-travel payments, to include the processing of official travel requests for DoD personnel, and other individuals who travel pursuant to DoD travel orders; to provide for the reimbursement of travel expenses incurred by individuals while traveling on official business; and to create a tracking system whereby DoD can monitor the authorization, obligation, and payment for such travel.

To establish a repository of archived/Management Information System (MIS) travel records which can be used to satisfy reporting requirements; to assist in the planning, budgeting, and allocation of resources for future DoD travel; to conduct oversight operations; to analyze travel, budgetary, or other trends; to detect fraud and abuse; and to respond to authorized internal and external requests for data relating to DoD official travel and travel related services, including premium class travel.

Routine uses of records maintained in the system, including categories of users and the purposes of such uses:

In addition to those disclosures generally permitted under 5 U.S.C. 552a(b) of the Privacy Act of 1974, as amended, these records may specifically be disclosed outside the DoD as a routine use pursuant to 5 U.S.C. 552a(b)(3) as follows:

To Federal and private entities providing travel services for purposes of arranging transportation and lodging for those individuals authorized to travel at government expense on official business.

To the Internal Revenue Service to provide information concerning the pay of travel allowances which are subject to federal income tax.

To banking establishments for the purpose of confirming billing or expense data.

The DoD ‘Blanket Routine Uses’ set forth at the beginning of the DoD compilation of systems of records notices apply to this system.

Policies and practices for storing, retrieving, accessing, retaining, and disposing of records in the system:

Storage:

Electronic storage media.

Retrievability:

Travel authorization and voucher records are retrieved by the name and/or Social Security Number (SSN) of the individual.

Safeguards:

Records are stored in office buildings protected by guards, controlled screening, use of visitor registers, electronic access, and/or locks. Access to records is limited to individuals who are properly screened and cleared on a need-to-know basis in the performance of their official duties. Passwords, digital signatures, and role-based access are used to control access to the systems data, and procedures are in place to deter and detect browsing and unauthorized access. Physical and electronic access are limited to persons responsible for servicing and authorized to use the record system.

Retention and disposal:

Records are maintained for 10 years, 3 months and then destroyed.

System manager(s) and address:

Deputy Director, Defense Travel Management Office, 4601 N. Fairfax Drive, Suite 800, Arlington, VA 22203-1546.

For archived records: Deputy Director, Defense Travel System/Management Information System, Defense Manpower Data Center, 400 Gigling Road, Seaside, CA 93955-6771.

Notification procedure:

Individuals seeking to determine whether information about themselves is contained in this system of records should address written inquiries to the Deputy Director, Defense Travel Management Office, 4601 N. Fairfax Drive, Suite 800, Arlington, VA 22203-1546 or (for archived records) the Deputy Director, Defense Travel System/Management Information System, Defense Manpower Data Center, 400 Gigling Road, Seaside, CA 93955-6771.

Individuals should provide their full name, Social Security Number (SSN), office or organization where assigned when trip was taken, and dates of travel.

Record access procedures:

Individuals seeking access to records about themselves contained in this system of records should address written requests to the Office of the Secretary of Defense/Joint Staff Freedom of Information Act Requester Service Center, 1155 Defense Pentagon, Washington, DC 20301-1155.

Requests must include the name and number of this system of records notice in addition to the individual's full name, Social Security Number (SSN), office or organization where assigned when trip was taken, dates of travel, and be signed by the individual.

Contesting record procedures:

The Office of the Secretary of Defense rules for accessing records, for contesting contents and appealing initial agency determinations are published in Office of the Secretary of Defense Administrative Instruction 81; 32 CFR part 311; or may be obtained from the System Manager.

Record source categories:

The individual traveler or other authorized DoD personnel.

Exemptions claimed for the system:

None.

[FR Doc. 2010-6455 Filed 3-23-10; 8:45 am]

BILLING CODE 5001-06-P